DEPARTMENT OF COMMERCE

International Trade Administration

Application(s) for Duty-Free Entry of Scientific Instruments

Pursuant to Section 6(c) of the Educational, Scientific and Cultural Materials Importation Act of 1966 (Public Law 89-651, as amended by Public Law 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before (Insert date 20 days after publication in the Federal Register). Address written comments to Statutory Import Programs Staff, Room 3720, U.S. Department of Commerce, Washington, DC 20230. Applications may be examined between 8:30 a.m. and 5:00 p.m. at the U.S. Department of Commerce in Room 3720.

Docket Number: 18-006. Applicant: Fermi Research Alliance, LLC., 2000 East Wilson Street, Batavia, IL 60510. Instrument: Short Baseline Near Detector (SBND) Liquid Argon Time Projection Chamber (LArTPC). Manufacturer: The Scientific Facilities Research Council (STFC), United Kingdom. Intended Use: The instrument will be used for a basic scientific research project that will study neurtrinos, a type of elementary particle. There are three known types of neutrinos in the universe, although there could be more that have not yet been observed. The phenomena to be studied are the number of neutrino types and interaction cross-sections for the currently known neutrino types. Two detectors are required to perform the neutrino oscillation studies: The Short Baseline Near Detector (SBND) is one of these detectors. The primary objective of the SBN program is to look for evidence of neutrino oscillations, over distances of 1 kilometer or less, and if found to measure the oscillation parameters. The SBND TPC is a complex and unique instrument. Justification for Duty-Free Entry: There are no instruments of the same general category manufactured in the United States. Application accepted by Commissioner of Customs: July 13, 2018.

Docket Number: 18-008. Applicant: Lawrence Berkeley National Laboratory, One Cyclotron Road, Berkeley, CA 94720. Instrument: In Vacuum Insertion Device (aka Undulator). Manufacturer: Hitachi Metals America, LLC, Japan. Intended Use: The instrument will be installed in Sector 2.0 of the Advanced Light Source (ALS) facility at Lawrence Berkeley Laboratory, for use as a high brightness beamline source for the sector. Sector 2.0 of the ALS is dedicated to the study and analysis of protein crystallography. The objectives pursued are to determine the atomic-resolution, three-dimensional structures of proteins and nucleic acids-the building blocks of life-as well as complexes of these molecules, the interactions of which give rise to biological processes. Justification for Duty-Free Entry: There are no instruments of the same general category manufactured in the United States. Application accepted by Commissioner of Customs: September 11, 2018.

Dated: November 29, 2018.
Gregory W. Campbell,
Director, Subsidies Enforcement, Enforcement and Compliance.

[FR Doc. 2018-26432 Filed 12-4-18; 8:45 am]

BILLING CODE 3510-DS-P